FEDERAL EMERGENCY MANAGEMENT AGENCY

44 CFR Part 67

[Docket No. FEMA-B-7430]

Proposed Flood Elevation Determinations

AGENCY: Federal Emergency Management Agency (FEMA).

ACTION: Proposed rule.

SUMMARY: Technical information or comments are requested on the proposed Base (1% annual chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the following table.

FOR FURTHER INFORMATION CONTACT: Matthew B. Miller, P.E., Chief, Hazards Study Branch, Federal Insurance and Mitigation Administration, FEMA, 500 C Street SW., Washington, DC 20472, (202) 646-3461, or (e-mail) matt.miller@fema.gov.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act

This proposed rule is categorically excluded from the requirements of 44 CFR part 10, Environmental Consideration. No environmental impact assessment has been prepared.

Regulatory Flexibility Act

The Administrator, Federal Insurance and Mitigation Administration certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376, § 67.4

2. The tables published under the authority of § 67.4 are proposed to be amended as follows:

State | City/town/county | Source of flooding | Location | #Depth in feet above ground. *Elevation in feet. (NGVD): Existing | #Depth in feet above ground. *Elevation in feet. (NGVD): Modified
California | Colusa County | Elk Creek | At confluence with Salt Creek | None | *138
|  |  | Approximately 1,250 feet downstream of Reddington Road | None | *156
|  | Salt Creek | Just upstream of Interstate 5 southbound | None | *125
|  |  | Approximately 1,250 feet upstream of Hillgate Road | None | *172
|  | Stone Corral Creek | Right overbank overflow at landing strip in NW corner of Section 34, Township 17N, Range 3W | None | *87
|  |  | Approximately 350 feet upstream of Cemetery Road | None | *102
|  | Stone Corral Creek, Right Overbank | Right overbank overflow at landing strip in NW corner of Section 34, Township 17N, Range 3W | None | *87
|  |  | Approximately 350 feet upstream of Cemetery Road | None | *102
|  | Stone Corral Creek, Left Overbank | Approximately 2,200 feet downstream of Interstate 99 | None | *90
|  |  | Approximately 350 feet of Cemetery Road | None | *102
|  | Salt Creek, Right Overbank | Approximately 300 feet west of the intersection of Bailey Road and Southern Pacific Railroad | None | *128
|  |  | Approximately 2,500 feet southwest of intersection of Hillgate Road and Almond Avenue | None | #1
|  | Salt Creek, Left Overbank | Approximately 1,700 feet north of confluence of Salt Creek and Elk Creek | None | #1
|  |  | Approximately 1,700 feet west of intersection of Hillgate Road and Almond Avenue | None | #1
|  | Local Ponding | Approximately 1,000 feet southwest of Maxwell Sites Road and Interstate 5 | None | #1
|  |  | Approximately 1,500 feet northwest of Maxwell Sites Road and Interstate 5 | None | *87
|  |  | Approximately 1,700 feet west of intersection of E Street and Venice Boulevard | None | *89
|  |  | Approximately 1,100 feet east of confluence of Salt Creek and Spring Creek | None | *90
|  |  | Just upstream of intersection of Maxwell Sites Road and Southern Pacific Railroad | None | *88
|  |  | At intersection of Finks Road and Cemetery Road | None | #2
|  |  | Approximately 1,000 feet northeast of Hillgate Road and Interstate 5 | None | #1
|  |  | Approximately 1,200 feet southwest of Hillgate Road and Interstate 5 | None | #1
|  |  | Approximately 2,300 feet east of Hillgate Road and Southern Pacific Railroad | None | #1
|  |  | Approximately 1,200 feet east of Hillgate Road and Southern Pacific Railroad | None | #2
|  |  | Approximately 1,500 feet west of Hillgate Road and Southern Pacific Railroad | None | #1
Maps are available for inspection at the Colusa County Courthouse Office of County Clerk, 547 Market Street, or the Coulsa County Department of Public Works, 1215 Market Street, Colusa, California 95932.
Send comments to Mr. John Wrysinski, Interim Director, Colusa County, Department of Public Works, 1215 Market Street, Colusa, California 95932.
California | Tehama County | Reeds Creek | Approximately 250 feet upstream of Paskenta Road | None | *285
|  |  | Approximately 1,000 feet upstream of confluence of Pine Creek | None | *309
Maps are available for inspection at the Tehama County Building Department, 444 Oak Street, Red Bluff, California 96080.
Send comments to The Honorable Rick Robinson, Chief Administrator, Tehama County, P.O. Box 927, Red Bluff, California 96080.
North Dakota | Langdon (City), Cavalier County | Mulberry Creek | Approximately 250 feet downstream of Highway 5 | None | +1,597
|  |  | Confluence of 5th Street Coulee | None | +1,600
|  |  | Just downstream of Highway 1 | None | +1,608
|  | ND Highway 1 Ditch | Approximately 450 feet upstream of Simplot Crossing | None | +1,609
|  |  | Approximately 1,500 feet upstream of Highway 5 | None | +1,612
|  | Diversion Channel | Approximately 300 feet downstream of 10th Street | None | +1,610
|  |  | Approximately 700 feet upstream of 10th Street | None | +1,612
|  | 5th Street Coulee | Confluence with Mulberry Creek | None | +1,600
|  |  | Just downstream of 12th Avenue | None | +1,605
|  |  | Approximately 1,400 feet upstream of 18th Street | None | +1,609
Maps are available for inspection at City Hall, 324 Eighth Avenue, Langdon, North Dakota 58249.
Send comments to The Honorable Don Haugen, Mayor, City Hall, 324 Eighth Avenue, Langdon, North Dakota 58249.
South Dakota | Spearfish (City), Lawrence County | False Bottom Creek | Approximately 700 feet downstream of westbound lane of Interstate 90 | *3,920 | *3,919
|  |  | Just upstream of eastbound lane of Interstate 90 | *3,936 | *3,935
|  |  | Approximately 390 feet upstream of U.S. Highway 14 (Alternate Route) | *3,944 | *3,945
Maps are available for inspection at City Hall, 625 Fifth Street, Spearfish, South Dakota 57783.
Send comments to The Honorable Jerry Krambeck, Mayor, City of Spearfish, City Hall, 625 Fifth Street, Spearfish, South Dakota 57783.
South Dakota | Minnehaha County | Skunk Creek | Approximately 4,400 feet downstream of U.S. Highway 16 | *1,429 | *1,431
|  |  | Just upstream of County Route 139 | *1,442 | *1,444
|  |  | Approximately 150 feet upstream of County Route 142 | *1,448 | *1,448
Maps are available for inspection at the County Administration Building, 415 North Dakota Avenue, Sioux Falls, South Dakota 57106.
Send comments to The Honorable Robert Kolbe, Chairperson, Minnehaha County Board of Commissioners, County Administration Building, 415 North Dakota Avenue, Sioux Falls, South Dakota 57106.
Wyoming | Lincoln County | Salt River | Approximately 2,500 feet downstream of McCox Road | None | *5,623
|  |  | Just upstream of secondary Highway 239 | None | *5,775
|  |  | Approximately 9,000 feet upstream of U.S. Highway 89 | None | *5,987
Maps are available for inspection at the Emergency Management Office, 520 Topaz Street, Kemmerer, Wyoming 83101.
Send comments to The Honorable Kathleen Davison, Chairperson, Lincoln County Board of Commissioners, County Courthouse, 925 Sage Avenue, Kemmerer, Wyoming 83101.

Flooding Source(s) | Location of referenced elevation | Elevation in feet *(NGVD) Elevation in feet + (NAVD): Effective | Elevation in feet *(NGVD) Elevation in feet + (NAVD): Modified | Communities affected
OKLAHOMA
Kingfisher County, and Incorporated Areas
Cimarron River | Approximately 9,000 feet downstream of confluence with Campbell Creek | None | *969 | Kingfisher County (Uninc. Areas).
| Approximately 750 feet downstream of County Road NS282 | None | *1,044
| Approximately 2,800 feet upstream of County Road EW60 | None | *1,120
Kingfisher Creek | At confluence with Cimarron River | None | *1,018 | Kingfisher County (Uninc. Areas) and City of Kingfisher.
| Approximately 1,000 feet downstream of 13th Street | *1,048 | *1,047
Little Turkey Creek | Approximately 1,000 feet upstream of County Road EW68 | None | *1,063 | Kingfisher County (Uninc. Areas).
| Approximately 3,200 feet upstream of State Highway 81 | None | *1,116
Turkey Creek (Main Channel) | Approximately 60 feet upstream of County Road EW715 | *1,039 | *1,038 | Kingfisher County (Uninc. Areas).
| Approximately 4,500 feet upstream of US Highway 51 | None | *1,093
Turkey Creek Split Flow | Approximately 2,400 feet downstream of US Route 81 | *1,029 | *1,028 | Kingfisher County (Uninc. Areas) and Town of Dover.
| Approximately 1,400 feet upstream of County Road EW71 | *1,038 | *1,043
ADDRESSES
Kingfisher County (Unincorporated. Areas)
Maps are available for inspection at Kingfisher County Floodplain Administrator's Office, County Courthouse, 101 South Main Street, Room 5, Kingfisher, Oklahoma 73750.
Send comments to The Honorable Jim Shimanek, Chairman, Kingfisher County Board of Commissioners, County Courthouse, 101 South Main Street, Room 9, Kingfisher, Oklahoma 73750.
City of Kingfisher
Maps are available for inspection at City Hall, 301 North Main Street, Kingfisher, Oklahoma 73750.
Send comments to The Honorable Richard Reynolds, Mayor, City of Kingfisher, City Hall, 301 North Main Street, Kingfisher, Oklahoma 73750.
Town of Dover
Maps are available for inspection at Town Hall, 101 North Chisholm, Dover, Oklahoma 73734.
Send comments to The Honorable Lee McNulty, Mayor, Town of Dover, P.O. Box 195, Dover, OK 73734.
NEW MEXICO
Quay County, and Incorporated Areas
Arroyo 1 | Confluence with Tucumcari Lake | None | +4,016 | Quay County (Uninc. Areas).
| Just downstream Chicago Rock Island and Pacific Railroad | None | +4,040
Arroyo 1A | Confluence with Arroyo 1 | None | +4,033 | Quay County (Uninc. Areas).
| Approximately 245 feet upstream of Quay Road AL | None | +4,080
Arroyo 2 | Confluence with Lake Tucumcari | None | +4,016 | Quay County (Uninc. Areas).
| Approximately 4,100 feet upstream of confluence with Lake Tucumcari | None | +4,043
Arroyo 3 | Confluence with Lake Tucumcari | None | +4,016 | Quay County (Uninc. Areas), City of Tucumcari.
| Approximately 1,750 feet upstream of US Highway 54 | *4,079 | +4,079
Arroyo 4 | Confluence with Lake Tucumcari | *4,013 | +4,016 | Quay County (Uninc. Areas), City of Tucumcari.
| Just downstream New Mexico Highway 18 | None | +4,139
Arroyo 4D | Confluence with Arroyo 4 | None | +4,036 | Quay County (Uninc. Areas).
| Approximately 650 feet upstream of US Interstate 40 | None | +4,063
Arroyo 4 Overflow | Confluence with Tucumcari Lake | None | +4,016 | Quay County (Uninc. Areas), City of Tucumcari.
| Just downstream of Tucumcari Boulevard | None | +4,033
| Confluence with Tucumcari Lake | None | +4,016
| Approximately 420 feet downstream of Laughlin Avenue | None | +4,023
Arroyo 4F (Rankin Draw) | Just upstream of Tucumcari Boulevard | None | +4,034 | Quay County (Uninc. Areas), City of Tucumcari.
| Approximately 180 feet upstream of South Monroe Street | None | +4,089
Arroyo 5 | Approximately 2,300 feet downstream of Chicago Rock Island and Pacific Railroad | None | +4,057 | Quay County (Uninc. Areas), City of Tucumcari.
| Approximately 2,650 feet upstream of the confluence of Arroyo 5 | None | +4,159
Arroyo 5B | Confluence with Arroyo 5 | None | +4,124 | Quay County (Uninc. Areas).
| Approximately 1,910 feet upstream of the confluence with Arroyo 5 | None | +4,150
Arroyo 6 | Approximately 2,850 feet downstream of Chicago Rock Island and Pacific Railroad | None | +4,068 | Quay County (Uninc. Areas), City of Tucumcari.
| Approximately 4,100 feet upstream of Eastbound Interstate 40 | None | +4,185
Arroyo 6A | Confluence with Arroyo 6 | *4,094 | +4,096 | Quay County (Uninc. Areas), City of Tucumcari.
| Approximately 2,500 feet upstream of I-40 Ramp A | None | +4,169
Arroyo 7 (Bluewater Creek) | Approximately 2,600 feet downstream of confluence of Arroyo 7A | None | +4,061 | Quay County (Uninc. Areas), City of Tucumcari.
| Approximately 4,500 feet upstream of confluence with Arroyo 7B | *4,107 | *4,109
Arroyo 7B | At confluence with Arroyo 7 | *4,089 | +4.091 | Quay County (Uninc. Areas), City of Tucumcari.
| Approximately 3,500 feet upstream of confluence of Arroyo 7C | None | +4,131
Arroyo 7C | At confluence with Arroyo 7B | *4,106 | +4,108 | Quay County (Uninc. Areas), City of Tucumcari.
| At Chicago Rock Island and Pacific Railroad | None | +4,155
San Jon Creek | Approximately 1,000 feet upstream of sewage disposal area | None | +4,021 | Village of San Jon, Quay County (Uninc. Areas).
| Approximately 450 feet downstream of Fourth Street | None | +4,034
ADDRESSES
Quay County (Unincorporated. Areas)
Maps are available for inspection at Quay County Clerks Office, 300 South 3rd Street, Tucumcari, New Mexico 88401.
Send comments to The Honorable Paula Chacon, County Manager, Quay County, P.O. Box 1246, Tucumari, New Mexico 88401.
City of Tucumcari
Maps are available for inspection at City Hall, 512 South 8th Street, Tucumcari, New Mexico 88401.
Send comments to The Honorable Calvin Litchfield, Mayor, City of Tucumcari, P.O. Box 1188, Tucumcari, New Mexico 88401.
Village of San Jon
Maps are available for inspection at City Hall, 507 Elm Avenue, San Jon, New Mexico 88434.
Send comments to The Honorable Joe Clark, Mayor, Village of San Jon, P.O. Box 37, San Jon, New Mexico 88434.
WASHINGTON
Whatcom County, and Incorporated Areas
Strait of Georgia at Point Roberts | At Point Roberts Marina | None | *8 | Whatcom County (Uninc. Areas).
| South Edwards Drive along southern shore | None | *11 | (Uninc. Areas).
Birch Bay Northwest Shore | At intersection of Seahome Road and Searshore Court | None | *8 | Whatcom County (Uninc. Areas).
| At Cottonwood Beach | None | *9
| Along shoreline near intersection of Halda Road and Nitinat Road | None | *14
Strait of Georgia at Sandy Point | At marina | None | *8 | Whatcom County (Uninc. Areas) and LummiIndian Reservation.
| Along eastern Shore Drive | None | *9
| Along western shoreline | None | *14
Strait of Georgia at Village Point | Along West Shore Drive | None | *9 | Whatcom County (Uninc. Areas).
| Along southern shoreline | None | *10
Lummi Bay | Approximately 600 feet from intersection of East Turtle Lane and Shore Drive | None | *8 | Whatcom County (Uninc Areas).
| Along shoreline near intersection of Lummi Park Road and Lane Split Road | None | *10
Bellingham Bay at Hermosa Beach | East of Lummi Shore Road | None | *8 | Whatcom County (Uninc. Areas) and LummiIndian Reservation.
Lummi Bay at Gooseberry Point | At intersection of Lummi View Drive and Haxton Way | None | *8 | Whatcom County (Uninc. Areas) and LummiIndian Reservation.
| Approximately 300 feet west of intersection of Lummi View Drive and Haxton Way | None | *9
Bellingham Bay at Eliza Island | In the south-facing valley of Eliza Island | None | *8 | Whatcom County (Uninc. Areas).
| At the southern shore of Eliza Island | None | *10
| At the western shore of Eliza Island | None | *10
ADDRESSES
Whatcom County (Unincorporated. Areas)
Maps are available for inspection at the Watcom County Department of Public Works, Division of Engineering, 284 West Kellogg Street, Suite C, Bellingham, Washington 98226.
Send comments to The Honorable Pete Kremen, Whatcom County Executive, 285 West Kellogg Street, Bellingham, Washington 98226.
Lummi Indian Reservation
Maps are available for inspection at the Lummi Indian Business Council Planning Department, 2828 Kwina Road, Bellingham, Washington 98226.
Send comments to The Honorable Darrell Frye, Chairman, Lummi Indian Business Council, Tribal Office, 2616 Kwina Road, Bellingham, Washington 98226.

(Catalog of Federal Domestic Assistance No. 83.100, “Flood Insurance”)
Dated: September 30, 2002.
Anthony S. Lowe,
Administrator, Federal Insurance and Mitigation Administration.

[FR Doc. 02-26217 Filed 10-15-02; 8:45 am]

BILLING CODE 6718-04-P